NUCLEAR REGULATORY COMMISSION

[NRC-2010-0255]

Office of New Reactors; Notice of Availability of the Final Staff Guidance; Section 13.5.1.1, Revision 1 on Administrative Procedures—General

AGENCY: Nuclear Regulatory Commission.

ACTION: Notice of availability.

SUMMARY: The U.S. Nuclear Regulatory Commission (NRC) is issuing its final Revision 1 to NUREG-0800, “Standard Review Plan for the Review of Safety Analysis Reports for Nuclear Power Plants: LWR Edition,” Section 13.5.1.1, Revision 1 on “Administrative Procedures—General” (Agencywide Documents Access and Management System (ADAMS) Accession No. ML112730402).

The NRC staff issues revisions to SRP sections to facilitate timely implementation of the current staff guidance and to facilitate reviews to amendments to licenses for operating reactors or for activities associated with review of applications for early site permits and combined licenses for the Office of New Reactors. The NRC staff will also incorporate Revision 1 of SRP Section 13.5.1.1 into the next revisions of the Regulatory Guide 1.206, “Combined License Applications for Nuclear Power Plants (LWR Edition),” and related guidance documents.

Disposition: On February 9, 2011, the NRC staff issued the proposed Revision 1 on SRP Section 13.5.1.1 on “Administrative Procedures—General,” ADAMS Accession No. ML110100193. There were no comments received on the proposed revision. Therefore, the guidance is issued as final without changes to the proposed notification as above.

Congressional Act Review

In accordance with the Congressional Review Act, the NRC has determined that this action is not a major rule and has verified this determination with the Office of Information and Regulatory Affairs of the Office of Management and Budget.

ADDRESSES: The NRC maintains ADAMS, which provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-(800) 397-4209, (301) 415-4737, or by email at pdr.resource@nrc.gov.

FOR FURTHER INFORMATION CONTACT: Ms. Amy E. Cubbage, Chief, Policy Branch, Division of Advanced Reactors and Rulemaking, Office of New Reactors, U.S. Nuclear Regulatory Commission, Washington, DC 20555-0001; telephone at (301) 415-2875 or email at amy.cubbage@nrc.gov.

SUPPLEMENTARY INFORMATION: The NRC posts its issued staff guidance on the NRC external web page (http://www.nrc.gov/reading-rm/doc-collections/isg/).

Dated at Rockville, Maryland, this 19th day of December 2011.
For the Nuclear Regulatory Commission.
Amy E. Cubbage,
Chief, Policy Branch, Division of Advanced Reactors and Rulemaking, Office of New Reactors.

[FR Doc. 2011-33258 Filed 12-27-11; 8:45 am]

BILLING CODE 7590-01-P